COMMISSION ON CIVIL RIGHTS

State Advisory Committees

AGENCY: United States Commission on Civil Rights.

ACTION: Notice of period during which individuals may apply to be appointed to the Illinois Advisory Committee, New Jersey Advisory Committee, Oregon Advisory Committee, and Vermont Advisory Committee; request for applications.

SUMMARY: Because the terms of the members of the Illinois Advisory Committee are expiring on May 30, 2015, the United States Commission on Civil Rights hereby invites any individual who is eligible to be appointed to apply. The memberships are exclusively for the Illinois Advisory Committee, and applicants must be residents of Illinois to be considered. Letters of interest must be received by the Midwestern Regional Office of the U.S. Commission on Civil Rights no later than February 15, 2015. Letters of interest must be sent to the address listed below.

Because the terms of the members of the New Jersey Advisory Committee are expiring on May 30, 2015, the United States Commission on Civil Rights hereby invites any individual who is eligible to be appointed to apply. The memberships are exclusively for the New Jersey Advisory Committee, and applicants must be residents of New Jersey to be considered. Letters of interest must be received by the Eastern Regional Office of the U.S. Commission on Civil Rights no later than February 15, 2015. Letters of interest must be sent to the address listed below.

Because the terms of the members of the Oregon Advisory Committee are expiring on May 30, 2015, the United States Commission on Civil Rights hereby invites any individual who is eligible to be appointed to apply. The memberships are exclusively for the Oregon Advisory Committee, and applicants must be residents of Oregon to be considered. Letters of interest must be received by the Western Regional Office of the U.S. Commission on Civil Rights no later than February 15, 2015. Letters of interest must be sent to the address listed below.

Because the terms of the members of the Vermont Advisory Committee are expiring on May 30, 2015, the United States Commission on Civil Rights hereby invites any individual who is eligible to be appointed to apply. The memberships are exclusively for the Vermont Advisory Committee, and applicants must be residents of Vermont to be considered. Letters of interest must be received by the Eastern Regional Office of the U.S. Commission on Civil Rights no later than February 15, 2015. Letters of interest must be sent to the address listed below.

DATES: Letters of interest for membership on the Illinois Advisory Committee should be received no later than February 15, 2015.

Letters of interest for membership on the New Jersey Advisory Committee should be received no later than February 15, 2015.

Letters of interest for membership on the Oregon Advisory Committee should be received no later than February 15, 2015.

Letters of interest for membership on the Vermont Advisory Committee should be received no later than February 15, 2015.

ADDRESSES: Send letters of interest for the Illinois Advisory Committee to: U.S. Commission on Civil Rights, Midwestern Regional Office, 55 W. Monroe St., Suite 410, Chicago, IL 60603. Letter can also be sent via email to callen@usccr.gov.

Send letters of interest for the New Jersey Advisory Committee to: U.S. Commission on Civil Rights, Eastern Regional Office, 1331 Pennsylvania Ave. NW., Suite 1150, Washington, DC 20425. Letter can also be sent via email to eroaa@usccr.gov.

Send letters of interest for the Oregon Advisory Committee to: U.S. Commission on Civil Rights, Western Regional Office, 300 North Los Angeles Street, Suite 2010, Los Angeles, CA 90012. Letters can also be sent via email to atrevino@usccr.gov.

Send letters of interest for the Vermont Advisory Committee to: U.S. Commission on Civil Rights, Eastern Regional Office, 1331 Pennsylvania Ave. NW., Suite 1150, Washington, DC 20425. Letter can also be sent via email to eroaa@usccr.gov.

FOR FURTHER INFORMATION CONTACT: David Mussatt, Chief, Regional Programs Unit, 55 W. Monroe St., Suite 410, Chicago, IL 60603, (312) 353-8311. Questions can also be directed via email to dmussatt@usccr.gov.

SUPPLEMENTARY INFORMATION: The Illinois, New Jersey, Oregon, and Vermont Advisory Committees (SACs) are statutorily mandated federal advisory committees of the U.S. Commission on Civil Rights pursuant to 42 U.S.C. 1975a. Under the charter for the SACs, the purpose is to provide advice and recommendations to the U.S. Commission on Civil Rights (Commission) on a broad range of civil rights matters in its respective state that pertain to alleged deprivations of voting rights or discrimination or denials of equal protection of the laws because of race, color, religion, sex, age, disability, or national origin, or the administration of justice. SACs also provide assistance to the Commission in its statutory obligation to serve as a national clearinghouse for civil rights information.

The SAC consists of not more than 19 members, each of whom will serve a two-year term. Members serve as unpaid Special Government Employees who are reimbursed for travel and expenses. To be eligible to be on a SAC, applicants must be residents of the respective state and have demonstrated expertise or interest in civil rights issues.

The Commission is an independent, bipartisan agency established by Congress in 1957 to focus on matters of race, color, religion, sex, age, disability, or national origin. Its mandate is to:

• Investigate complaints from citizens that their voting rights are being deprived,

• study and collect information about discrimination or denials of equal protection under the law,

• appraise federal civil rights laws and policies,

• serve as a national clearinghouse on discrimination laws,

• submit reports and findings and recommendations to the President and the Congress, and

• issue public service announcements to discourage discrimination.

The Commission invites any individual who is eligible to be appointed a member of the Illinois, New Jersey, Oregon, or Vermont Advisory Committee covered by this notice to send a letter of interest and a resume to the respective address above.

Dated: January 13, 2015.
David Mussatt,
Chief, Regional Programs Unit.

[FR Doc. 2015-00693 Filed 1-16-15; 8:45 am]

BILLING CODE P